DEPARTMENT OF HOMELAND SECURITY

U.S. Citizenship and Immigration Services

Agency Information Collection Activities: Form I-9 CNMI; Extension of an Existing Information Collection; Comment Request

ACTION: 60-Day Notice of Information Collection under Review; Form I-9 CNMI, CNMI Employment Eligibility Verification; OMB Control No. 1615-0112.

The Department Homeland Security, U.S. Citizenship and Immigration Services (USCIS) has submitted the following information collection request for review and clearance in accordance with the Paperwork Reduction Act of 1995. The information collection is published to obtain comments from the public and affected agencies. Comments are encouraged and will be accepted for sixty days until March 1, 2010.

During this 60 day period, USCIS will be evaluating whether to revise the Form I-9 CNMI. Should USCIS decide to revise Form I-9 CNMI we will advise the public when we publish the 30-day notice in the Federal Register in accordance with the Paperwork Reduction Act. The public will then have 30 days to comment on any revisions to the Form I-9 CNMI.

Written comments and/or suggestions regarding the item(s) contained in this notice, especially regarding the estimated public burden and associated response time, should be directed to the Department of Homeland Security (DHS), USCIS, Chief, Regulatory Products Division, Clearance Officer, 111 Massachusetts Avenue, NW., Washington, DC 20529-2210. Comments may also be submitted to DHS via facsimile to 202-272-8352 or via e-mail at rfs.regs@dhs.gov. When submitting comments by e-mail, please make sure to add OMB Control No. 1615-0112 in the subject box.

When submitting comments on this information collection, your comments should address one or more of the following four points.

(1) Evaluate whether the collection of information is necessary for the proper performance of the functions of the agency, including whether the information will have practical utility;

(2) Evaluate the accuracy of the agency's estimate of the burden of the collection of information, including the validity of the methodology and assumptions used;

(3) Enhance the quality, utility, and clarity of the information to be collected; and

(4) Minimize the burden of the collection of information on those who are to respond, including through the use of appropriate automated, electronic, mechanical, or other technological collection techniques or other forms of information technology, e.g., permitting electronic submission of responses.

Overview of This Information Collection

a. Type of information collection: Extension of an existing information collection.

b. Abstract: This collection is necessary to document that each new employee (both citizen and noncitizen) hired in the Commonwealth of the Northern Mariana Islands (CNMI), is authorized to work in the CNMI.

c. Title of Form/Collection: CNMI Employment Eligibility Verification.

d. Agency form number, if any, and the applicable component of the Department of Homeland Security sponsoring the collection: Form I-9 CNMI; U.S. Citizenship and Immigration Services.

e. Affected public who will be asked or required to respond: Primary: Individuals and Households.

f. An estimate of the total number of respondents: 1,700 respondents at 9 minutes per response, and 3 minutes for recordkeeping.

g. Total Annual Reporting Burden: 340 hours.

If you need a copy of the information collection instrument, please visit the Web site at: http://www.regulations.gov/.

We may also be contacted at: USCIS, Regulatory Products Division, 111 Massachusetts Avenue, NW., Washington, DC 20529-2210, Telephone number 202-272-8377.

Dated: December 28, 2009.
Stephen Tarragon,
Deputy Chief, Regulatory Products Division, U.S. Citizenship and Immigration Services, Department of Homeland Security.

[FR Doc. E9-31099 Filed 12-30-09; 8:45 am]

BILLING CODE 9111-97-P